DEPARTMENT OF HEALTH AND HUMAN SERVICES

Administration for Children and Families

Proposed Information Collection Activity; Comment Request

Title: Personal Responsibility Education Program (PREP) Multi-Component Evaluation—Data Collection Related to the Performance Analysis Study and the Impact and the In-depth Implementation Study.

OMB No.: 0970-0398

Description: The Office of Data Analysis, Research, and Evaluation (HHS/ACF/ACYF/ODARE) in the Administration for Children, Youth and Families (ACYF) and the Office of Planning, Research, and Evaluation (HHS/ACF/OPRE) in the Administration for Children and Families (ACF) propose a data collection activity as part of the Personal Responsibility Education Program (PREP) Multi-Component Evaluation. The goals of the PREP Multi-Component Evaluation are to document how PREP programs are designed and implemented in the field, collect performance measure data for PREP programs, and assess the effectiveness of selected PREP-funded programs.

The PREP Multi-Component Evaluation contains three components: the “Design and Implementation Study,” the “Performance Analysis Study,” and the “Impact and In-Depth Implementation Study.” This notice is specific to data collection activities for both the Performance Analysis Study and the Impact and In-Depth Implementation Study.

The Performance Analysis Study component entails the development of performance measures and collection and analysis of performance measure data from PREP and Competitive PREP (CPREP) grantees. Data will be used to determine if PREP and CPREP grantees are meeting performance benchmarks related to the program's mission and priorities.

The Impact and In-depth Study component entails separate random assignment impact analyses accompanied by in-depth implementation analyses of four-to-five specific PREP-funded programs. The Impact and In-Depth Implementation Study will expand available evidence on whether the replication of evidence-based programs, or the substantial incorporation of elements of these programs, funded as part of PREP, are effective at delaying sexual activity, increasing condom or contraceptive use for sexually active youth, or reducing pregnancy among youth.

A description of the activities proposed follows:

Performance Analysis—CPREP Performance Measure Data Collection: Performance measurement data collection instruments will be administered to individuals representing CPREP grantees, CPREP program facilitators, other CPREP program staff, and CPREP program participants.

Impact Analysis—Follow-up Instruments: Two follow-up surveys (one at approximately 6 months post-program and one at approximately 12-24 months post-program) will be administered to study participants. Statistical analyses will be performed with these data to determine program effects.

Impact Analysis—Administrative Data Collection: Data will also be collected from administrative records (e.g. school or state agency data bases) and used to determine program effects.

In-depth Implementation Analysis—Implementation Instruments: Site visits will be conducted at two to three points during the program implementation period. During these site visits, in-person interviews, focus groups, and a web survey of program staff will be conducted. Data collected through these activities will provide an understanding of the selected programs' implementation and context and will allow for a description of each program and the treatment-control contrast to be evaluated in each site. Data will also help in interpreting impact findings.

Respondents: Program applicants (i.e., adolescents); Data managers (e.g., at schools or state agencies); Program administrators and staff; Participating youth; and Community members.

Annual Burden Estimates
Instrument | Total number of respondents | Number of responses per respondent | Average burden hours per response | Estimated total burden hours | Estimated annual burden hours
Performance Analysis: Competitive PREP Performance Measure Data Collection
Participant entry survey | 60,420 | 1 | .08333 | 5,035 | 1,678
Participant exit survey | 48,336 | 1 | .16667 | 8,056 | 2,685
Performance reporting system data form | 111 | 1 | 30 | 3,330 | 1,110
Implementation site data collection | 900 | 1 | 14 | 12,600 | 4,200
Estimated Annual Burden—Subtotal for Performance Measure Data Collection |  |  |  |  | 9,673
Impact Analysis: Follow-up Instruments
First follow-up survey with program applicants | 4,800 | 1 | 0.75 | 3,600 | 1,200
Second follow-up survey with program applicants | 2,250 | 1 | 0.75 | 1,688 | 563
Estimated Annual Burden—Sub-total for Follow-up Instruments |  |  |  |  | 1,763
Impact Analysis: Administrative Data Collection
Administrative records | 6 | 1 | 6 | 36 | 12
Estimated Annual Burden—Sub-total for Administrative Data Collection Instrument |  |  |  |  | 12
In-depth Implementation Analysis: Implementation Instruments
Focus group guide with participants | 320 | 1 | 1.5 | 480 | 160
Semi-structured interview topic guide with program staff and other stakeholders | 160 | 2 | 1 | 320 | 107
Web survey of program staff | 100 | 2 | 0.5 | 100 | 33
Estimated Annual Burden—Sub-total for Implementation Instruments |  |  |  |  | 300
TOTAL Estimated Annual Burden |  |  |  |  | 11,748

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Steven M. Hanmer,
Reports Clearance Officer.

[FR Doc. 2013-02295 Filed 2-4-13; 8:45 am]

BILLING CODE 4184-37-M